ENVIRONMENTAL PROTECTION AGENCY

40 CFR Part 52

[EPA-R06-OAR-2013-0542; FRL-9907-86-Region 6]

Extension of Public Comment Period for Proposed Action; Texas; Revisions to the New Source Review State Implementation Plan; Flexible Permit Program

AGENCY: Environmental Protection Agency (EPA).

ACTION: Proposed rule; extension of comment period.

SUMMARY: On February 12, 2014, the Environmental Protection Agency (EPA) published in the Federal Register a proposed rule to conditionally approve the Texas New Source Review (NSR) State Implementation Plan (SIP) for establishing the Flexible Permit Program and requested comments by March 14, 2014. EPA is extending the original public comment period of 30 days for the proposed rule until April 4, 2014.

DATES: Comments must be received on or before April 4, 2014.

ADDRESSES: Submit your comments, identified by Docket ID No. EPA-R06-OAR-2013-0542, by one of the following methods:

• http://www.regulations.gov. Follow the online instructions for submitting comments.

• Email: Ms. Stephanie Kordzi at kordzi.stephanie@epa.gov.

• Mail or delivery: Ms. Stephanie Kordzi, Air Permits Section (6PD-R), Environmental Protection Agency, 1445 Ross Avenue, Suite 1200, Dallas, Texas 75202-2733.

Instructions: Direct your comments to Docket ID No. EPA-R06-OAR-2013-0542. EPA's policy is that all comments received will be included in the public docket without change and may be made available online at http://www.regulations.gov, including any personal information provided, unless the comment includes information claimed to be Confidential Business Information (CBI) or other information the disclosure of which is restricted by statute. Do not submit information through http://www.regulations.gov or email, if you believe that it is CBI or otherwise protected from disclosure. The http://www.regulations.gov Web site is an “anonymous access” system, which means that EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment along with any disk or CD-ROM submitted. If EPA cannot read your comment due to technical difficulties and cannot contact you for clarification, EPA may not be able to consider your comment. Electronic files should avoid the use of special characters and any form of encryption and should be free of any defects or viruses. For additional information about EPA's public docket, visit the EPA Docket Center homepage at http://www.epa.gov/epahome/dockets.htm.

Docket: The index to the docket for this action is available electronically at www.regulations.gov and in hard copy at EPA Region 6, 1445 Ross Avenue, Suite 700, Dallas, Texas. While all documents in the docket are listed in the index, some information may be publicly available only at the hard copy location (e.g., copyrighted material), and some may not be publicly available at either location (e.g., CBI). To inspect the hard copy materials, please schedule an appointment with the person listed in the FOR FURTHER INFORMATION CONTACT paragraph below or Mr. Bill Deese at 214-665-7253.

FOR FURTHER INFORMATION CONTACT: Ms. Stephanie Kordzi (6PD-R), Air Permits Section, Environmental Protection Agency, Region 6, 1445 Ross Ave (6PD-R), Suite 1200, Dallas, TX 75202-2733. Telephone (214) 665-7520, email at kordzi.stephanie@epa.gov.

SUPPLEMENTARY INFORMATION: Throughout this document whenever “we,” “us,” or “our” is used, we mean the EPA. On February 12, 2014, we published in the Federal Register a proposed rule on the flexible permit program in Texas. In the proposal, we requested comment by March 14, 2014. We received a request from the Environmental Integrity Project on February 27, 2014, to extend the comment period to a total of 90 days from the original 30 day public comment period. After careful analysis, we decided to extend the comment period out an additional 21 days. The extension length was based on providing commenters an additional 17 days following the Texas Commission on Environmental Quality (TCEQ) public hearing scheduled for March 18, 2014. This extension will provide an opportunity for submission of rebuttal and supplementary information until April 4, 2014.

List of Subjects in 40 CFR Part 52

Environmental protection, Air pollution control, Carbon monoxide, Intergovernmental relations, Lead, Nitrogen dioxide, Ozone, Particulate matter, Reporting and recordkeeping requirements, Sulfur oxides, Volatile organic compounds and incorporation by reference.

Dated: March 5, 2014.
Wren Stenger,
Multimedia Planning and Permitting Division Director Region 6.

[FR Doc. 2014-05382 Filed 3-11-14; 8:45 am]

BILLING CODE 6560-50-P